DEPARTMENT OF HEALTH AND HUMAN SERVICES

42 CFR Parts 5 and 51c

RIN 0906-AA44

Designation of Medically Underserved Populations and Health Professional Shortage Areas

AGENCY: Department of Health and Human Services (HHS).

ACTION: Notice of proposed rulemaking; extension of public comment period and clarification.

SUMMARY: On February 29, 2008, HHS published a notice of proposed rulemaking, “Designation of Medically Underserved Populations and Health Professional Shortage Areas” (73 FR 11232), to revise and consolidate the criteria and processes for designating medically underserved populations (MUPs) and health professional shortage areas (HPSAs). HHS provided a 60-day public comment period, with written comments to be received on or before April 29, 2008. HHS and the Health Resources and Services Administration (HRSA) have received requests for an extension of the comment period. In consideration of these requests, HHS is extending the comment period an additional 30 days, with a new closing date of May 29, 2008.

DATES: Written comments on the proposed rule must be submitted on or before May 29, 2008. Please refer to SUPPLEMENTARY INFORMATION for additional information.

ADDRESSES: You may submit comments in one of four ways (no duplicates, please):

1. Electronically. You may submit electronic comments on specific issues in this regulation to http://www.regulations.gov. Click on the link “Submit electronic comments on HRSA regulations with an open comment period.” (Attachments should be in Microsoft Word, WordPerfect, or Excel; however, we prefer Microsoft Word.)

2. By Regular Mail. You may mail written comments (one original and two copies) to the following address only: Health Resources and Services Administration, Department of Health and Human Services, Attention: Ms. Andy Jordan, 8C-26 Parklawn Building, 5600 Fishers Lane, Rockville, MD 20857.

Please allow sufficient time for mailed comments to be received before the close of the comment period.

3. By Express or Overnight Mail. You may send written comments (one original and two copies) to the following address only: Health Resources and Services Administration, Department of Health and Human Services, Attention: Ms. Andy Jordan, 8C-26 Parklawn Building, 5600 Fishers Lane, Rockville, MD 20857.

4. By Hand or Courier. If you prefer, you may deliver (by hand or courier) your written comments (one original and two copies) before the close of the comment period (May 29, 2008) to one of the following addresses. If you intend to deliver your comments to the Rockville address, please call telephone number (301) 594-0816 in advance to schedule your arrival with one of our staff members at these addresses: Room 445-G, Hubert H. Humphrey Building, 200 Independence Avenue, SW., Washington, DC 20201; or 8C-26 Parklawn Building, 5600 Fishers Lane, Rockville, MD 20857. (Because access to the interior of the HHH Building is not readily available to persons without Federal Government identification, commenters are encouraged to leave their comments in the HRSA drop slots located in the main lobby of the building. A stamp-in clock is available for persons wishing to retain a proof of filing by stamping in and retaining an extra copy of the comments being filed.)

Comments mailed to the addresses indicated as appropriate for hand or courier delivery may be delayed and received after the comment period.

FOR FURTHER INFORMATION CONTACT: Andy Jordan, (301) 594-0197.

SUPPLEMENTARY INFORMATION: HRSA is concerned that the publication of the proposed HPSA/MUP regulation has created misapprehension among some health center grantees regarding their ability to meet the proposed HPSA/MUP designation criteria, and in particular, their eligibility for current or expanded health center funding opportunities. The proposed rule includes three methods for making designations. As proposed, none of the three methods would limit health center eligibility for current, new or expanded funding.

Currently, all of the designations are made on data that are submitted by States or communities. Under the proposed rule, this submission burden would be reduced by HRSA's use of nationally available data for initial calculations. In addition, States or communities continue to have the option to submit more specific or current local data as an alternative for use in calculations. This option may be particularly important to accurately reflect local demographic and health service realities. For example, an urban area may include a subpopulation with high needs, or a rural area may have recently experienced an acute loss of primary care providers.

In addition to the Tier 1 method, the proposed rule includes two new designation methods. The first new method (Tier 2) assures that areas/organizations are not disadvantaged by the presence of federally-supported resources. The second new method (Safety Net Facility) allows those organizations that serve high need populations to maintain or pursue designation. If none of the above methods produces a designation, this proposed rule continues the possibility of designation at the request of the Governor pursuant to existing law (section 330(b)(3)(D), Public Health Service Act).

To reassess the impact of the proposed regulation on health centers, HRSA analyzed the most recent data from health center grantees who reported in calendar year 2006 to the Uniform Data System (UDS) and HRSA applied the methodologies in the proposed rule using nationally available data. Based on this analysis, at most, only 16 out of 1,001 health center grantees (1.6 percent) would have to include State or local data to seek to maintain their current designation status. This analysis was conducted at the grantee level consistent with HRSA's health center policy that states: “The statutory obligations of serving an MUA or MUP is an organizational level obligation, not a site specific requirement.” (http://answers.hrsa.gov/, Answer ID 1216). The proposed rule does not change this health center policy.

In order to facilitate a better understanding of the proposed rule, HRSA provided State Primary Care Offices (PCO) with a calculator that applies the formulas proposed in the rule to determine designation, with data files, as well as with technical assistance in using the calculator. We encourage interested parties to contact and work with their PCOs (http://nhsc.bhpr.hrsa.gov/resources/info/pco.asp) to review data and understand the implications of the proposed rule.

To allay concerns of some commenters, this notice seeks to draw attention to and elicit comments on the following matters:

Eligibility for Federal Resources

In the preamble, a statement in section IV. B. Methodology (last paragraph before subsection C at 73 FR 11247) inaccurately reflects our intent and the potential effect regarding eligibility for organizations designated through Tier 1 or Tier 2. It suggests that Tier 2 designations will not be eligible for additional Federal resources. That is not the case. No provision in the proposed rule imposes any such limitation and it is not our intent to do so. Under the proposed rule, whether designated via Tier 1, Tier 2, or Safety Net Facility all entities will be equally eligible to compete for new or expanded health center funding. Similarly, all entities designated through Tier 1, Tier 2, or Safety Net Facility will be equally eligible to compete for National Health Service Corps (NHSC) placements. In contrast to the health center policy described above, NHSC placements are site specific pursuant to section 333(a) of the Public Health Service Act. For example, while a health center grantee may be eligible for health center funding for all of its sites, only some of its sites may be eligible under law for NHSC placements. For further information on NHSC placements, please contact your State PCO.

Scoring for Relative Need

Scores are a numerical expression of relative need derived from available data about demography, economics, population density, health status and available primary care providers. Scores are designed to be used by the NHSC for provider placement and may be used by other programs. While the proposed rule does not include a specific methodology for scoring those organizations that receive a designation for serving high-need populations (Safety Net Facility), a scoring methodology will have to be established. To determine a Safety Net Facility designation, HRSA will need data on the proportions of the applicant organization's patient population that are low-income uninsured as well as Medicaid-eligible (see 73 FR 11251 of the proposed rule). We seek comments on how to score these Safety Net Facility designations so that their need is ranked equitably with the designations scored in the other methods outlined in the proposed rule, that is, Tier 1 and Tier 2.

We invite comments on these issues, as well as any other provisions of the proposed rule. We will respond to all comments when we publish the final rule.

Dated: April 17, 2008.
Elizabeth M. Duke,
Administrator, Health Resources and Services Administration.

[FR Doc. 08-1167 Filed 4-17-08; 11:32 am]

BILLING CODE 4152-01-P